TENNESSEE VALLEY AUTHORITY

Meeting of the Regional Energy Resource Council

AGENCY: Tennessee Valley Authority (TVA).

ACTION: Notice of meeting.

SUMMARY: The TVA Regional Energy Resource Council (RERC) will hold a meeting Wednesday, December 11, 2019, and Thursday, December 12, 2019, to discuss an introduction to TVA, its mission and approaches to managing coal ash.

The RERC was established to advise TVA on its energy resource activities and the priority to be placed among competing objectives and values. Notice of this meeting is given under the Federal Advisory Committee Act (FACA).

DATES: The public meeting will be held on Wednesday, December 11, 2019, from 8:30 a.m. to 12:00 p.m., EST, and 4:30 p.m. EST to 5:30 p.m. EST, and on Thursday, December 12, 2019, from 8:30 a.m. to 12:00 p.m. EST.

ADDRESSES: The meeting will be held at the TVA Knoxville Office Complex, 400 West Summit Hill Drive, Knoxville, Tennessee 37902 and will be open to the public. Anyone needing special access or accommodations should let the contact below know at least a week in advance.

FOR FURTHER INFORMATION CONTACT: Liz Upchurch, 865-632-8305, efupchurch@tva.gov.

SUPPLEMENTARY INFORMATION: The meeting agenda includes the following:

1. Introductions

2. Overview of TVA and its Mission

3. Overview of TVA's approach to manage coal ash

4. Public Comments

5. Council Discussion and Advice

The RERC will hear opinions and views of citizens by providing a public comment session starting at 4:30 p.m. EST, lasting up to an hour, on Wednesday, December 11, 2019. Persons wishing to speak are requested to register either at the door between 8:30 a.m. and 3:30 p.m., EST, on Wednesday, December 11, 2019, or in advance by visiting www.tva.com/About-TVA/Get-Involved-Stay-Involved, and will be called on during the public comment period. TVA will set time limits for providing oral comments, once registered. Handout materials should be limited to one printed page. Written comments are also invited and may be mailed to the Regional Energy Resource Council, Tennessee Valley Authority, 400 West Summit Hill Drive, WT-9-D, Knoxville, Tennessee 37902.

Dated: November 21, 2019.
Amy Henry,
Senior Manager, Enterprise Relations & Strategic Partnerships, Tennessee Valley Authority.

[FR Doc. 2019-25791 Filed 11-26-19; 8:45 am]

BILLING CODE 8120-08-P